DEPARTMENT OF ENERGY

Federal Energy Regulatory Commission

[Docket No. EL01-67-000, et al.]

Tractebel Power, Inc., et al.; Electric Rate and Corporate Regulation Filings

April 25, 2001.

Take notice that the following filings have been made with the Commission:

1. Tractebel Power, Inc., Petitioner California Cogeneration Council, et al.

[Docket Nos. EL01-67-000 and EL01-64-000]

Take notice that on April 18, 2001, Tractebel Power, Inc. submitted for filing with the Federal Energy Regulatory Commission (Commission), a Petition for an Enforcement Action Pursuant to Section 210(h)(2)(B) of the Public Utility Regulatory Policies Act of 1978 (PURPA), 16 U.S.C. § 824a-3(h)(2)(B) (2000), and Rule 207 of the Commission's Rules of Practice and Procedure, 18 CFR 385.207.

Comment date: May 18, 2001, in accordance with Standard Paragraph E at the end of this notice.

2. Tri-State Generation and Transmission

[Docket No. NJ01-4-000]

Take notice that on April 20, 2001, Tri State Generation and Transmission Association, Inc. (Tri-State) tendered for filing with the Federal Energy Regulatory Commission (Commission), a Petition for a Declaratory Order that its Open Access Transmission Tariff meets the Commission's comparability standards and is therefore an acceptable reciprocity tariff pursuant to the provisions of Order Nos. 888, 888-A and 888-B.

Comment date: May 21, 2001, in accordance with Standard Paragraph E at the end of this notice.

3. The Detroit Edison Company

[Docket No. ER01-1379-001]

Take notice that on April 20, 2001, The Detroit Edison Company (Detroit Edison) tendered for filing a compliance Service Agreement for wholesale power sales transactions (the Service Agreements) under Detroit Edison's Wholesale Power Sales Tariff (WPS-2), FERC Electric Tariff No. 3 (the WPS-2 Tariff) between Detroit Edison and Powerex Corp.

Comment date: May 11, 2001, in accordance with Standard Paragraph E at the end of this notice.

4. Commonwealth Edison Company, Commonwealth Edison Company of Indiana

[Docket No. ER01-1796-001]

Take notice that on April 20, 2001, Commonwealth Edison Company and Commonwealth Edison Company of Indiana (collectively ComEd) tendered for filing corrections to its April 12, 2001 filing in Docket No. ER01-1796-001 of its Order 614 reformatted OATT. Accordingly ComEd tendered for filing Substitute Original Sheet Nos. 110, 114 and 124 to correct those sheets from which language had inadvertently been dropped in its April 12, 2001 filing.

ComEd requests an effective date of June 12, 2001.

Comment date: May 11, 2001, in accordance with Standard Paragraph E at the end of this notice.

5. PPL Electric Utilities Corporation

[Docket No. ER01-1829-000]

Take notice that on April 20, 2001, PPL Electric Utilities Corporation (PPL Electric Utilities) tendered for filing an Interconnection Agreement between PPL Electric Utilities and PEI Power II, LLC.

Comment date: May 11, 2001, in accordance with Standard Paragraph E at the end of this notice.

6. The Detroit Edison Company

[Docket No. ER01-1830-000]

Take notice that on April 20, 2001, The Detroit Edison Company (Detroit Edison) tendered for filing Service Agreements for wholesale power sales transactions (the Service Agreements) under Detroit Edison's Wholesale Power Sales Tariff (WPS-2), FERC Electric Tariff No. 3 (the WPS-2 Tariff) between Detroit Edison and Alpena Power Company and between Detroit Edison and Consumers Energy Company d/b/a Consumers Energy Traders.

Comment date: May 11, 2001, in accordance with Standard Paragraph E at the end of this notice.

7. PECO Energy Company

[Docket No. ER01-1831-000]

Take notice that on April 20, 2001, PECO Energy Company (PECO) tendered for filing an Interconnection Agreement between PECO and Merck & Co., Inc. (Merck), designated as Service Agreement No. 569 under PJM Interconnection, L.L.C.”s FERC Electric Tariff, Fourth Revised Volume No. 1, to be effective on April 20, 2001. Copies of this filing were served on Merck and PJM.

Comment date: May 11, 2001, in accordance with Standard Paragraph E at the end of this notice.

8. Commonwealth Edison Company

[Docket No. ER01-1832-000]

Take notice that on April 20, 2001, Commonwealth Edison Company (ComEd) tendered for filing an unexecuted Service Agreement with the city of Batavia and an unexecuted Service Agreement with the city of St. Charles under the terms and conditions of ComEd's Power Sales and Reassignment of Transmission Rights Tariff PSRT-1.

ComEd requests an effective date of March 22, 2001 for the Service Agreements and accordingly requests waiver of the Commission's notice requirements. Copies of the filing were served on the cities of Batavia and St. Charles.

Comment date: May 11, 2001, in accordance with Standard Paragraph E at the end of this notice.

9. Commonwealth Edison Company, Commonwealth Edison Company of Indiana

[Docket No. ER01-1833-000]

Take notice that on April 20, 2001 Commonwealth Edison Company and Commonwealth Edison Company of Indiana (collectively ComEd) tendered for filing to amend the generator interconnection procedures set forth in Attachment K of ComEd's Open Access Transmission Tariff (OATT).

ComEd requests an effective date of June 20, 2001. Copies of the filing were served upon ComEd's jurisdictional customers and interested state commissions.

Comment date: May 11, 2001, in accordance with Standard Paragraph E at the end of this notice.

10. Carolina Power & Light Company

[Docket No. ER01-1834-000]

Take notice that on April 20, 2001, Carolina Power & Light Company (CP&L) tendered for filing an executed Service Agreement between CP&L and the following eligible buyer, Washington Gas Energy Services, Inc. Service to this eligible buyer will be in accordance with the terms and conditions of CP&L's Market-Based Rates Tariff, FERC Electric Tariff No. 4, for sales of capacity and energy at market-based rates.

CP&L requests an effective date of March 28, 2001 for this Service Agreement.

Copies of the filing were served upon the North Carolina Utilities Commission and the South Carolina Public Service Commission.

Comment date: May 11, 2001, in accordance with Standard Paragraph E at the end of this notice.

11. Western Resources, Inc. and Kansas Gas and Electric Company

[Docket No. ER01-1835-000]

Take notice that on April 20, 2001, Western Resources, Inc. (WRI) tendered for filing on its behalf and on behalf of its wholly owned subsidiary, Kansas Gas and Electric Company (KGE), an Order 614 compliant version of the Electric Power, Transmission and Service Contracts between WRI and the Kansas Electric Power Cooperative, Inc. (KEPCo) and between KGE and KEPCo. WRI states that the filing is to submit for filing an Order 614 compliant version of the contract accepted by the Federal Energy Regulatory Commission (FERC) in Docket No. ER93-683-000 KGE states that the filing is not only to submit the an Order 614 compliant version of its contract with KEPCo, accepted in Docket No. ER93-683-000, but also to update the existing Exhibit B to reflect the installation of the Haysville delivery point. This filing is proposed to become effective March 23, 2001.

Copies of the filing were served upon KEPCo and the Kansas Corporation Commission.

Comment date: May 11, 2001, in accordance with Standard Paragraph E at the end of this notice.

12. Community Energy, Inc.

[Docket No. ER01-1836-000]

Take notice that on April 20, 2001. Community Energy, Inc. (CEI) tendered for filing for acceptance of CEI Rate Schedule FERC No. 1; the granting of certain blanket approvals, including the authority to sell electricity at market-rates; and the waiver of certain Commission regulations.

CEI intends to engage in wholesale electric power and energy purchases and sales as a marketer. CEI is not in the business of generating or transmitting electric power. CEI is involved in electric energy marketing, with its primary purpose of serving energy customers with the “cleanest” energy options.

Comment date: May 11, 2001, in accordance with Standard Paragraph E at the end of this notice.

13. Northern Indiana Public Service Company

[Docket No. ER01-1837-000]

Take notice that on April 20, 2001, Northern Indiana Public Service Company tendered for filing an executed Standard Transmission Service Agreement for Non-Firm Point-to-Point Transmission Service between Northern Indiana Public Service Company and H.Q. Energy Services (U.S.) Inc. (H.Q. Energy).

Under the Transmission Service Agreement, Northern Indiana Public Service Company will provide Non-Firm Point-to-Point Transmission Service to H.Q. Energy pursuant to the Transmission Service Tariff filed by Northern Indiana Public Service Company in Docket No. OA96-47-000 and allowed to become effective by the Commission. Northern Indiana Public Service Company has requested that the Service Agreement be allowed to become effective as of April 21, 2001.

Copies of this filing have been sent to H.Q. Energy Marketing Corporation, the Indiana Utility Regulatory Commission, and the Indiana Office of Utility Consumer Counselor.

Comment date: May 11, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-10904 Filed 5-1-01; 8:45 am]

BILLING CODE 6717-01-P